DEPARTMENT OF TRANSPORTATION

Federal Aviation Administration

14 CFR Part 39

[Docket No. FAA-2018-0287; Product Identifier 2018-NE-10-AD; Amendment 39-19263; AD 2018-09-07]

RIN 2120-AA64

Airworthiness Directives; Rolls-Royce plc Turbojet Engines

AGENCY: Federal Aviation Administration (FAA), DOT.

ACTION: Final rule; request for comments.

SUMMARY: We are adopting a new airworthiness directive (AD) for Rolls-Royce plc (RR) Viper Mk. 601-22 turbojet engines. This AD requires removing the oil pump assembly, part number (P/N) V112027, and oil pressure filter, P/N V21264, from service and replacing them with parts eligible for installation. This AD was prompted by a report of an engine failure caused by installation of an incorrect oil filter. We are issuing this AD to correct the unsafe condition on these products.

DATES: This AD is effective May 24, 2018.

The Director of the Federal Register approved the incorporation by reference of a certain publication listed in this AD as of May 24, 2018.

We must receive comments on this AD by June 25, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact DA Services Operations Room at Rolls-Royce plc, Defense Sector Bristol, WH-70, P.O. Box 3, Filton, Bristol BS34 7QE, United Kingdom; phone: +44 (0) 117 97 90700; fax: +44 (0) 117 97 95498; email: defence-operations-room@rolls-royce.com. You may view this service information at the FAA, Engine & Propeller Standards Branch, 1200 District Avenue, Burlington, MA 01803. For information on the availability of this material at the FAA, call 781-238-7759. It is also available on the internet at http://www.regulations.gov by searching for and locating Docket No. FAA-2018-0287.

Examining the AD Docket

You may examine the AD docket on the internet at http://www.regulations.gov by searching for and locating Docket No. FAA-2018-0287; or in person at Docket Operations between 9 a.m. and 5 p.m., Monday through Friday, except Federal holidays. The AD docket contains this final rule, the mandatory continuing airworthiness information (MCAI), the regulatory evaluation, any comments received, and other information. The street address for Docket Operations (phone: 800-647-5527) is listed above. Comments will be available in the AD docket shortly after receipt.

FOR FURTHER INFORMATION CONTACT: Robert Green, Aerospace Engineer, ECO Branch, FAA, 1200 District Avenue, Burlington, MA 01803; phone: 781-238-7754; fax: 781-238-7199; email: robert.green@faa.gov.

SUPPLEMENTARY INFORMATION:

Discussion

The European Aviation Safety Agency (EASA), which is the Technical Agent for the Member States of the European Community, has issued EASA AD 2017-0197, dated October 6, 2017 (referred to after this as the MCAI), to address an unsafe condition for the specified products. The MCAI states:

An engine mainline bearing failure occurred on a Viper Mk. 632-43 engine because of debris being present in the engine oil system. The debris entered the oil system through a damaged oil pressure filter. Further investigation of this event revealed that, although the oil pump assembly was of post-modification (mod) CV4559 standard, the oil pressure filter fitted on the oil pump assembly was a pre-mod CV 4559 standard (Part Number (P/N) V21264). The purpose of modification CV4559 is to replace the oil pressure filter P/N V21264 with a more robust oil pressure filter (P/N 2526). Mod CV4559 was introduced in service by R-R Service Bulletin (SB) 72-198.

This condition, if not detected and corrected, could lead to an engine mainline bearing failure, possibly resulting in a complete loss of thrust and consequent reduced control of the aeroplane.

To address this potentially unsafe condition, R-R issued Alert SB 72-A208, providing instructions to identify and replace pre-modification oil filters.

For the reason described above, this [EASA] AD requires replacement of all oil pressure filters P/N V21264 found to be installed on post-mod CV4559 oil pump assemblies. This AD also requires replacement of all pre-mod CV4559 oil pump assemblies (P/N V112027) with post-mod oil pump assemblies (P/N V112225 or P/N NPN11962).

You may obtain further information by examining the MCAI in the AD docket on the internet at http://www.regulations.gov by searching for and locating Docket No. FAA-2018-0287.

Related Service Information Under 1 CFR Part 51

We reviewed RR Alert Service Bulletin (ASB) Mk. 601-22 Number 72-A208, dated September 2017. The ASB describes procedures for inspecting and replacing a pre-modification oil pump assembly and oil pressure filter with parts eligible for installation. This service information is reasonably available because the interested parties have access to it through their normal course of business or by the means identified in the ADDRESSES section.

FAA's Determination

This product has been approved by EASA and is approved for operation in the United States. Pursuant to our bilateral agreement with the European Community, EASA has notified us of the unsafe condition described in the MCAI and service information referenced above. We are issuing this AD because we evaluated all the relevant information provided by EASA and determined the unsafe condition described previously is likely to exist or develop in other products of the same type design.

AD Requirements

This AD requires inspecting the oil pump assembly and oil pressure filter and replacing pre-modification parts with parts eligible for installation.

FAA's Justification and Determination of the Effective Date

An unsafe condition exists that requires the immediate adoption of this AD without providing an opportunity for public comments prior to adoption. The FAA has found that the risk to the flying public justifies waiving notice and comment prior to adoption of this rule because the compliance time for the action is less than the time required for public comment. EASA made a determination of an unsafe condition warranting regulatory action and compliance within 25 flight hours or 30 days. Therefore, we find good cause that notice and opportunity for prior public comment are impracticable. In addition, for the reason stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-0287 and Product Identifier 2018-NE-10-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 32 engines installed on airplanes of U.S. registry.

We estimate the following costs to comply with this AD:

Estimated Costs
Action | Labor cost | Parts cost | Cost per product | Cost on U.S. operators
Inspect and replace the oil filter | 3 work-hours × $85 per hour = $255 | $200 | $455 | $14,560

We estimate the following costs to do any necessary replacements that would be required based on the results of the proposed inspection. We have no way of determining the number of aircraft that might need this replacement.

On-Condition Costs
Action | Labor cost | Parts cost | Cost per product
Replace the oil pump assembly | 4 work-hours × $85 per hour = $340 | $200 | $540

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-09-07 Rolls-Royce plc: Amendment 39-19263; Docket No. FAA-2018-0287; Product Identifier 2018-NE-10-AD.

(a) Effective Date

This AD is effective May 24, 2018.

(b) Affected ADs

None.

(c) Applicability

This AD applies to all Rolls-Royce plc (RR) Viper Mk. 601-22 engines.

(d) Subject

Joint Aircraft System Component (JASC) Code 7900, Engine Oil System (Airframe Furnished).

(e) Unsafe Condition

This AD was prompted by a report of an engine failure caused by the installation of an incorrect oil filter. We are issuing this AD to prevent a failure of the engine oil system. The unsafe condition, if not addressed, could result in loss of engine thrust control, and reduced control of the airplane.

(f) Compliance

Comply with this AD within the compliance times specified, unless already done.

(g) Required Actions

(1) For engines with an oil pump assembly, part number (P/N) V112225 or P/N NPN11962, installed:

(i) After the effective date of this AD, within 30 days or 25 flight hours, whichever occurs first, inspect the oil pump assembly to determine the P/N of the oil pressure filter in accordance with the Accomplishment Instructions, Paragraph 2.A.(3), of RR Alert Service Bulletin (ASB) Mk. 601-22 Number 72-A208, dated September 2017.

(ii) If an oil pressure filter, P/N V21264, is installed, replace the oil pressure filter before the next flight with oil filter, P/N 2526, in accordance with the Accomplishment Instructions, Paragraph 2.A.(3)(b), of RR ASB Mk. 601-22 Number 72-A208, dated September 2017.

(2) For engines with an oil pump assembly, P/N V112027, installed:

(i) After the effective date of this AD, within 30 days or 25 flight hours, whichever occurs first, replace the oil pump assembly with oil pump assembly, P/N V112225 or P/N NPN11962, in accordance with the Accomplishment Instructions, Paragraph 2.A.(2), of RR ASB Mk. 601-22 Number 72-A208, dated September 2017.

(ii) Reserved.

(h) Installation Prohibition

After the effective date of this AD, do not install an oil pump assembly, P/N V112027, or an oil pressure filter, P/N V21264, on any engine, nor return any engine to service with an oil pump assembly, P/N V112027, or an oil pressure filter, P/N V21264, installed.

(i) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. You may email your request to: ANE-AD-AMOC@faa.gov.

(2) Before using any approved AMOC, notify your appropriate principal inspector, or lacking a principal inspector, the manager of the local flight standards district office/certificate holding district office.

(j) Related Information

(1) For more information about this AD, contact Robert Green, Aerospace Engineer, ECO Branch, FAA, 1200 District Avenue, Burlington, MA 01803; phone: 781-238-7754; fax: 781-238-7199; email: robert.green@faa.gov.

(2) Refer to European Aviation Safety Agency (EASA) AD 2017-0197, dated October 6, 2017, for more information. You may examine the EASA AD in the AD docket on the internet at http://www.regulations.gov by searching for and locating it in Docket No. FAA-2018-0287.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Rolls-Royce plc Alert Service Bulletin Mk. 601-22 Number 72-A208, dated September 2017.

(ii) Reserved.

(3) For Rolls-Royce plc service information identified in this AD, contact DA Services Operations Room at Rolls-Royce plc, Defense Sector Bristol, WH-70, P.O. Box 3, Filton, Bristol BS34 7QE, United Kingdom; phone: +44 (0) 117 97 90700; fax: +44 (0) 117 97 95498; email: defence-operations-room@rolls-royce.com.

(4) You may view this service information at FAA, Engine & Propeller Standards Branch, 1200 District Avenue, Burlington, MA 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on April 25, 2018.
Robert J. Ganley,
Manager, Engine and Propeller Standards Branch, Aircraft Certification Service.

[FR Doc. 2018-09913 Filed 5-8-18; 8:45 am]

BILLING CODE 4910-13-P